DEPARTMENT OF JUSTICE

Antitrust Division

Notice Pursuant to the National Cooperative Research and Production Act of 1993—Bethlehem Steel Corporation and U.S. Steel Group, a Unit of USX Corporation

Notice is hereby given that, on July 21, 1999, pursuant to Section 6(a) of the National Cooperative Research and Production Act of 1993, 15 U.S.C. 4301 et seq. (“the Act”), Bethlehem Steel Corporation and U.S. Steel Group, A Unit of USX Corporation, filed written notifications simultaneously with the Attorney General and the Federal Trade Commission disclosing a change in its project status. The notifications were filed for the purpose of extending the Act's provisions limiting the recovery of antitrust plaintiffs to actual damages under specified circumstances. Specifically, the venture has been extended for an additional year.

No other changes have been made in either the membership or planned activity of the group research project. Membership in this group research project remains open, and Bethlehem Steel Corporation and U.S. Steel Group intends to file additional written notification disclosing all changes in membership.

On July 15, 1994, Bethlehem Steel Corporation and U.S. Steel Group filed their original notification pursuant to Section 6(a) of the Act. The Department of Justice published a notice in the Federal Register pursuant to section 6(b) of the Act on August 31, 1994 (59 FR 45009).

The last notification was filed with the Department on March 24, 1998. A notice was published in the Federal Register pursuant to Section 6(b) of the Act on September 30, 1998 (63 FR 52291).

Constance K. Robinson,
Director of Operations, Antitrust Division.

[FR Doc. 00-3963 Filed 2-17-00; 8:45 am]

BILLING CODE 4410-11-M